INTERNATIONAL TRADE COMMISSION

[Investigation Nos. 701-TA-432 and 731-TA-1024-1028 (Third Review) and AA1921-188 (Fifth Review)]

Prestressed Concrete Steel Wire Strand From Brazil, India, Japan, Korea, Mexico, and Thailand

Determinations

On the basis of the record ¹ developed in the subject five-year reviews, the United States International Trade Commission (“Commission”) determines, pursuant to the Tariff Act of 1930 (“the Act”), that revocation of the countervailing duty order on prestressed concrete steel wire strand (“PC strand”) from India, the antidumping duty orders on PC strand from Brazil, India, Korea, Mexico, and Thailand, as well as the antidumping duty finding on PC strand from Japan, would be likely to lead to continuation or recurrence of material injury to an industry in the United States within a reasonably foreseeable time.

¹ The record is defined in § 207.2(f) of the Commission's Rules of Practice and Procedure (19 CFR 207.2(f)).

Background

The Commission instituted these reviews on March 2, 2020 (85 FR 12331) and determined on June 5, 2020 that it would conduct expedited reviews (85 FR 61977, October 1, 2020).

The Commission made these determinations pursuant to section 751(c) of the Act (19 U.S.C. 1675(c)). It completed and filed its determinations in these reviews on October 28, 2020. The views of the Commission are contained in USITC Publication 5130 (October 2020), entitled Prestressed Concrete Steel Wire Strand from Brazil, India, Japan, Korea, Mexico, and Thailand: Investigation Nos. 701-TA-432 and 731-TA-1024-1028 (Third Review) and AA1921-188 (Fifth Review).

By order of the Commission.
Issued: October 28, 2020.
Lisa Barton,
Secretary to the Commission.

[FR Doc. 2020-24276 Filed 11-2-20; 8:45 am]

BILLING CODE 7020-02-P